NUCLEAR REGULATORY COMMISSION

Draft Regulatory Guide; Issuance, Availability

The Nuclear Regulatory Commission has issued for public comment a draft of a new guide in its Regulatory Guide Series. This series has been developed to describe and make available to the public such information as methods acceptable to the NRC staff for implementing specific parts of the NRC's regulations, techniques used by the staff in evaluating specific problems or postulated accidents, and data needed by the staff in its review of applications for permits and licenses.

The draft guide, temporarily identified by its task number, DG-1093 (which should be mentioned in all correspondence concerning this draft guide), is titled “Guidance and Examples for Identifying 10 CFR 50.2 Design Bases.” This guide is being developed to provide a better understanding of the term “design bases” as defined in 10 CFR 50.2. This better understanding is to help the industry and the NRC staff implement the regulations that use the term design bases. This guide proposes the endorsement of the Nuclear Energy Institute document, Appendix B, “Guidelines and Examples for Identifying 10 CFR 50.2 Design Bases,” to NEI 97-04, “Design Bases Program Guidelines.”

This draft guide has not received complete staff approval and does not represent an official NRC staff position.

Comments may be accompanied by relevant information or supporting data. Written comments may be submitted to the Rules and Directives Branch, Office of Administration, U.S. Nuclear Regulatory Commission, Washington, DC 20555. Copies of comments received may be examined at the NRC Public Document Room, 2120 L Street NW., Washington, DC. Comments will be most helpful if received by June 15, 2000.

You may also provide comments via the NRC's interactive rulemaking website through the NRC home page (http://www.nrc.gov). This site provides the availability to upload comments as files (any format), if your web browser supports that function. For information about the interactive rulemaking website, contact Ms. Carol Gallagher, (301) 415-5905; e-mail CAG@NRC.GOV. Electronic copies of this draft guide, under Accession Number ML003691412, are available in NRC's Public Electronic Reading Room, which can also be accessed through NRC's web site, <WWW.NRC.GOV>. For information about the draft guide and the related documents, contact Mr. S.L. Magruder at (301) 415-3139; e-mail SLM1@NRC.GOV.

Although a time limit is given for comments on this draft guide, comments and suggestions in connection with items for inclusion in guides currently being developed or improvements in all published guides are encouraged at any time.

Regulatory guides are available for inspection at the Commission's Public Document Room, 2120 L Street NW., Washington, DC. Requests for single copies of draft or final guides (which may be reproduced) or for placement on an automatic distribution list for single copies of future draft guides in specific divisions should be made in writing to the U.S. Nuclear Regulatory Commission, Washington, DC 20555, Attention: Reproduction and Distribution Services Section; or by fax to (301)415-2289, or by e-mail to <DISTRIBUTION@NRC.GOV>. Telephone requests cannot be accommodated. Regulatory guides are not copyrighted, and Commission approval is not required to reproduce them. (5 U.S.C. 552(a))

Dated at Rockville, Maryland, this 31st day of March 2000.
For the Nuclear Regulatory Commission.
Charles E. Ader,
Director, Program Management, Policy Development & Analysis Staff Office of Nuclear Regulatory Research.

[FR Doc. 00-9059 Filed 4-11-00; 8:45 am]

BILLING CODE 7590-01-P